OFFICE OF GOVERNMENT ETHICS

Privacy Act of 1974; Amendment to System of Records

AGENCY: Office of Government Ethics (OGE).

ACTION: Notice of Modification of Routine Uses (a.) and (l.) in OGE/GOVT-1 System of Records.

SUMMARY: The U.S. Office of Government Ethics (OGE) proposes to modify existing routine uses (a.) and (l.) to OGE/GOVT-1, Executive Branch Personnel Public Financial Disclosure Reports and Other Name-Retrieved Ethics Program Records (OGE/GOVT-1 System of Records). This action is necessary to comply with the requirements of the Privacy Act to publish in the Federal Register notice of the existence and character of records maintained by the agency (5 U.S.C. 552a(e)(4)). OGE last published OGE/GOVT-1 at 68 FR 3098-3109 (January 22, 2003), as corrected at 68 FR 24744 (May 8, 2003). An additional routine use was added to OGE/GOVT-1 at 76 FR 24489 (May 2, 2011) and modified at 77 FR 45353 (July 31, 2012).

DATES: This action will be effective without further notice on January 8, 2014 unless comments received before this date would result in a contrary determination.

ADDRESSES: You may submit comments to OGE on this Privacy Act Notice by any of the following methods:

Email: usoge@oge.gov (Include reference to “Privacy Act OGE/GOVT-1 Modified Routine Uses” in the subject line of the message).

Fax: 202-482-9237, Attention: Diana Veilleux, Privacy Officer.

Mail, Hand Delivery/Courier: Office of Government Ethics, Suite 500, 1201 New York Avenue NW., Washington DC 20005-3917, Attention: Diana Veilleux, Privacy Officer.

All comments received will be posted without change on the OGE Web site, including any personal information provided.

FOR FURTHER INFORMATION CONTACT: Diana Veilleux, Privacy Officer, Office of Government Ethics, Suite 500, 1201 New York Avenue NW., Washington, DC 20005-3917; Telephone: 202-482-9203; TTY: 800-877-8339; FAX: 202-482-9237; Email: Diana.veilleux@oge.gov.

SUPPLEMENTARY INFORMATION: In accordance with the Privacy Act of 1974, 5 U.S.C. 552a, this document provides public notice that OGE is proposing to amend the OGE/GOVT-1 System of Records. The amendments will modify routine use (a.) to update the references to provisions in the Ethics in Government Act (EIGA), 5 U.S.C. app. 101, regarding procedures that must be met by any person before access to the records maintained in the system may be granted. Specifically, the amendments add a citation to section 402(b)(1) of EIGA, which references the OGE Director's authority to establish procedures for providing public availability of financial disclosure reports.

The amendments also modify routine use (l.) to restore the routine use to its original language as set forth at 76 FR 24489 (May 2, 2011). Routine use (l.) was modified at 77 FR 45353 (July 31, 2012) to implement provisions of the Stop Trading on Congressional Knowledge Act of 2012 (STOCK Act), Public Law 112-105 (April 4, 2012), which required posting on agency web .sites all public financial disclosure reports. The STOCK Act was subsequently amended by Public Law 113-7 (April 14, 2013) to limit the posting requirement to public financial disclosure reports of officials occupying Executive Level I and II positions, making the 2012 amendments to modify routine use (l.) no longer necessary.

The system report, as required by 5 U.S.C. 552a(r), has been submitted to the Committee on Homeland Security and Governmental Affairs of the United States Senate, the Committee on Oversight and Government Reform of the House of Representatives and the Office of Management and Budget.

Routine Use (a.)

(a.) to disclose the information furnished by the reporting official, in accordance with sections 105 and 402(b)(1) of the Ethics in Government Act of 1978, 5 U.S.C. app. 101, as amended, to any requesting person.

Routine Use (l.)

(l.) to disclose on the OGE Web site and to otherwise disclose to any person, including other departments and agencies, any written ethics agreements filed with the Office of Government Ethics, pursuant to 5 CFR 2634.803, by an individual nominated by the President to a position requiring Senate confirmation when the position also requires the individual to file a public financial disclosure report.

Approved: December 2, 2013.
Walter M. Shaub, Jr.,
Director, Office of Government Ethics.

[FR Doc. 2013-29342 Filed 12-6-13; 8:45 am]

BILLING CODE 6345-03-P